DEPARTMENT OF ENERGY

Federal Energy Regulatory Commission

[Project No. 13287-004-NY]

Notice of Availability of Draft Environmental Assessment; City of New York

In accordance with the National Environmental Policy Act of 1969 and the Federal Energy Regulatory Commission's regulations, 18 CFR Part 380 (Order No. 486, 52 FR 47897), the Office of Energy Projects has reviewed the application for an original license for the proposed 14.08-megawatt (MW) Cannonsville Hydroelectric Project, which would be located on the City of New York's existing Cannonsville Dam, which impounds its Cannonsville Water Supply Reservoir. The dam and reservoir are located on the West Branch of the Delaware River, near the Township of Deposit, in Delaware County, New York. Commission staff prepared a draft Environmental Assessment (draft EA) which analyzes the potential environmental effects of construction and operation of the project and concludes that issuing a new license for the project, with appropriate environmental measures, would not constitute a major federal action significantly affecting the quality of the human environment.

A copy of the draft EA is on file with the Commission and is available for public inspection. The draft EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support.

Comments on the draft EA should be filed within 30 days from the date of this notice. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13287-004.

For Further Information Contact: John Mudre at (202) 502-8902.

Dated: October 31, 2013.
Kimberly D. Bose,
Secretary.

[FR Doc. 2013-26658 Filed 11-6-13; 8:45 am]

BILLING CODE 6717-01-P